DEPARTMENT OF AGRICULTURE

Forest Service

Revision of the Land Management Plans for the Malheur, Umatilla, and Wallowa-Whitman National Forests in Oregon, Washington, and Idaho States

AGENCY: USDA Forest Service.

ACTION: Notice of the opportunity to object to the Revised Land Management Plans for the Malheur, Umatilla, and Wallowa-Whitman National Forests.

SUMMARY: The USDA Forest Service has prepared Revised Land Management Plans (Forest Plans) for the Malheur, Umatilla, and Wallowa-Whitman National Forests (also termed the Blue Mountains Forests). The Forest Service has also prepared a single Final Environmental Impact Statement (FEIS) and a combined Draft Record of Decision. This notice is to inform the public that a 60-day objections period is being initiated for individuals or entities who have submitted substantive formal comments related to the revision of the Malheur, Umatilla, and Wallowa-Whitman Forest Plans during the opportunities for public comment provided during the planning process for that decision. Objections must be based on previously submitted substantive formal comments attributed to the objector unless the objection concerns an issue that arose after the opportunities for formal comment.

DATES: The Revised Malheur, Umatilla, and Wallowa-Whitman Forest Plans, FEIS, Draft Record of Decision, and other supporting documentation are available on the following web page: http://www.fs.usda.gov/goto/BlueMountainsPlanRevision.

A legal notice of the initiation of the 60-day objection period is being published in The Oregonian, which is the newspaper of record for Regional Forester decisions in the Pacific Northwest Region of the Forest Service. The 60-day objection period will begin the day following the date of the publication of the legal notice in The Oregonian. A copy of the legal notice will be posted on web page listed above.

ADDRESSES: Electronic objections must be submitted to the Objection Reviewing Officer via email to objections-chief@fs.fed.us, with a subject line stating: “Objection regarding the Revised Blue Mountains Forest Plans.” Electronic submissions must be submitted in a format (Word, PDF, or Rich Text) that is readable and searchable with optical character recognition software.

Faxed objections must be sent and addressed to “Chris French, Objection Reviewing Officer” at (202) 649-1172 and must include a subject line stating: “Objection regarding the Revised Blue Mountains Forest Plans.” The fax coversheet should specify the number of pages being submitted.

Hardcopy objections may be submitted by regular mail, private carrier, or hand delivery to the following address: USDA Forest Service, Attn: Chris French, Objection Reviewing Officer, 1400 Independence Ave. SW, EMC-PEEARS, Mailstop 1104, Washington, DC 20250. Office hours are Monday through Friday, 8:00 a.m. to 4:30 p.m., excluding Federal holidays. Hardcopy submissions must include a subject line on page one stating: “Objection regarding the Revised Blue Mountains Forest Plans.”

Individuals who need to use telecommunication devices for the deaf (TDD) to transmit objections may call the Federal Information Relay Service (FIRS) at 1-800-877-8339 between 8:00 a.m. and 8:00 p.m., Eastern Standard Time, Monday through Friday.

FOR FURTHER INFORMATION CONTACT: Team Leader, Peter Fargo, 1550 Dewey Ave., Suite A, Baker City, OR 97814, (541) 523-1231.

SUPPLEMENTARY INFORMATION: The decision to approve the Revised Malheur, Umatilla, and Wallowa-Whitman Forest Plans will be subject to the objection process identified in 36 CFR part 219 subpart B (219.50 to 219.62). Individuals and entities who have submitted substantive formal comments related to the revision of the Malheur, Umatilla, and Wallowa-Whitman Forest Plans during the opportunities for public comment, as provided in 36 CFR part 219 subpart A, during the planning process for that decision may file an objection. Objections must be based on previously submitted substantive formal comments attributed to the objector unless the objection concerns an issue that arose after the opportunities for formal comment. The burden is on the objector to demonstrate compliance with requirements for objection. All objections must be filed, in writing, with the reviewing officer for the Revised Malheur, Umatilla, and Wallowa-Whitman Forest Plans. Objections received in response to this solicitation, including names and addresses of those who object, will be considered part of the public record on these proposed actions and will be available for public inspection. At a minimum, an objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the Plan Revision(s) being objected to, and the name and title of the responsible official;

(5) A statement of the issues and/or parts of the Plan Revision(s) to which the objection applies;

(6) A concise statement explaining the objection and suggesting how the proposed plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management Plans or other published Forest Service documents,

c. Documents referenced by the Forest Service in the planning documentation related to the proposal subject to objection, and

d. Formal comments previously provided to the Forest Service by the objector during the plan revision comment period.

Prior to the issuance of the reviewing officer's written response, either the reviewing officer or the objector may request to meet to discuss issues raised in the objection. Interested persons who wish to participate in meetings to discuss issues raised by objectors must have previously submitted substantive formal comments related to the objection issues. Interested persons must file a request to participate as an interested person within 10 days after legal notice of objections received has been published. Requests must be sent to the same email or address identified for filing objections, above, and the interested person must identify the specific issues they have interest in discussing. During the objection meeting, interested persons will be able to participate in discussions related to issues on the agenda that they have listed in their request to be an interested person.

Responsible Official

The Regional Forester for the Pacific Northwest Region (1220 SW 3rd Avenue, Portland, OR 97204, (503) 808-2200) is the responsible official who will approve the final Records of Decision for the Revised Malheur, Umatilla, and Wallowa-Whitman Forest Plans.

Reviewing Officer

The Associate Deputy Chief for the National Forest System is the delegated reviewing officer for the Chief of the Forest Service (36 CFR 219.56(e)(2)).

Dated: May 30, 2018.
Chris French,
Associate Deputy Chief, National Forest System.

[FR Doc. 2018-13792 Filed 6-26-18; 8:45 am]

BILLING CODE 3411-15-P